FEDERAL COMMUNICATIONS COMMISSION

47 CFR Part 73

[MB Docket No. 25-287; RM-12010; DA 26-120; FR ID 330714]

Television Broadcasting Services Hutchinson, Kansas

AGENCY: Federal Communications Commission.

ACTION: Final rule.

SUMMARY: This document amends the Table of TV Allotments (table) of the Federal Communications Commission's (Commission) rules by substituting channel *33 for channel *8 at Hutchinson, Kansas in response to a Petition for Rulemaking filed by Kansas Public Telecommunications Service, Inc. (Kansas Public or Petitioner), the licensee of noncommercial educational PBS member television station KPTS(TV) (KPTS or Station), Hutchinson, Kansas. In support of its channel substitution request, the Petitioner asserts that allowing the Station to move from a VHF to a UHF channel would serve the public interest by improving signal reception for viewers. The staff engineering analysis finds that the proposal is in compliance with the Commission's principal community coverage and technical requirements. The substitution of channel *33 for channel *8 in the Table will allow the Station to improve its over-the-air reception within its coverage area and is not predicted to result in viewer loss.

DATES: Effective March 19, 2026.

FOR FURTHER INFORMATION CONTACT: Devin Loveland, Video Division, Media Bureau at Devin.Loveland@fcc.gov, (202) 418-1618; Emily Harrison, Media Bureau, at Emily.Harrison@fcc.gov, (202) 418-1665; or Mark Colombo, Media Bureau, at Mark.Colombo@fcc.gov, (202) 418-7611.

SUPPLEMENTARY INFORMATION: This is a synopsis of the Commission's Report and Order, MB Docket No. 25-287; RM-12010; DA 26-120, adopted February 5, 2026, and released February 5, 2026. The proposed rule was published at 90 FR 45367 on September 22, 2025. The full text of this document is available online at https://www.fcc.gov/edocs.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622, in the table in paragraph (j), under Kansas, revise the entry for “Hutchinson” to read as follows:

§ 73.622 Digital television table of allotments.

* * * * *

(j) * * *

Community | Channel No.
* * * * *
Kansas
* * * * *
Hutchinson | 19, * 33, 35
* * * * *

* * * * *

[FR Doc. 2026-03015 Filed 2-13-26; 8:45 am]

BILLING CODE 6712-01-P